DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Multispecies Amendment 16.

OMB Control Number: 0648-0605.

Form Number(s): NA.

Type of Request: Regular submission (revision and extension of a current information collection).

Number of Respondents: 1,482.

Average Hours per Response: Pre-trip notification, trip start hail, trip forward hail, 48-hour notification for all multispecies vessels and provision of weigh-out slips to monitoring providers, 2 minutes each; monitoring system for discards and database entry, 3 minutes; transfer of annual catch entitlement, call-in for vessel monitoring system (VMS) unit confirmation, area and days-at-sea declaration, notification of monitor emergency, relay catch/discard data, days-at-sea transfers, 5 minutes each; VMS certification form, reporting of monitor deployments, Northwest Atlantic Fisheries Organization reporting, 10 minutes each; catch-reporting requirements, vessel trip-end hails, 15 minutes; notification of ejection from sector, monitoring reporting requirements for safety, copies of contracts and supporting documents, 30 minutes; Office of Law Enforcement debrief of monitor, 2 hours; sector manager weekly catch reports; 4 hours; sector manager annual catch reports, 12 hours; monitoring and reporting service provider's application, and response to denial, 10 hours each; submission of proposed special access programs; 20 hours; operations plan and NEPA analysis, 640 hours total.

Burden Hours: 80,637.

Needs and Uses: This request is for revision and extension of a current information collection. Under the Magnuson-Stevens Fishery Conservation and Management Act (Magnuson-Stevens Act), the Secretary of Commerce has the responsibility for the conservation and management of marine fishery resources. We, National Oceanic and Atmospheric Administration's (NOAA) National Marine Fisheries Service (NMFS), and the Regional Fishery Management Councils are delegated the majority of this responsibility. The New England Fishery Management Council (Council) develops management plans for fishery resources in New England.

In 2010, we implemented a new suite of regulations for the Northeast (NE) multispecies fishery through Amendment 16 to the Multispecies Fishery Management Plan (Amendment 16). This action updated status determination criteria for all regulated NE multispecies or ocean pout stocks; adopted rebuilding programs for NE multispecies stocks newly classified as being overfished and subject to overfishing; revised management measures, including significant revisions to the sector management measures, necessary to end overfishing, rebuild overfished regulated NE multispecies and ocean pout stocks, and mitigate the adverse economic impacts of increased effort controls. It also implemented new requirements under Amendment 16 for establishing acceptable biological catch (ABC), annual catch limits (ACLs), and accountability measures (AMs) for each stock managed under the FMP, pursuant to the Magnuson-Stevens Act.

Revisions: The Restricted Gear Requirements have been removed from the regulations. Therefore the requirement to declare into these areas via VMS, or to receive an LOA are also removed from this information collection.

Also, percentages of trip monitoring, planned to change after the first three years, are changed.

In an attempt to consolidate reporting requirements that are mandated by the NE multispecies regulation, we propose moving some requirements out of OMB Control No. 0648-0202, Northeast Region Permit Family of Forms, and into this collection, including: The Days-at-Sea Transfer Program, Expedited Submission of Proposed Special Access Programs, and North Atlantic Fisheries Organization Reporting Requirements.

Affected Public: Business or other for-profit organizations.

Frequency: Annually, weekly, on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: March 7, 2013.
Gwellnar Banks,
Management Analyst, Office of the Chief Information Officer.

[FR Doc. 2013-05720 Filed 3-12-13; 8:45 am]

BILLING CODE 3510-22-P